DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing updates to the identifying information of two persons currently included on the SDN List. All property and interests in property subject to U.S. jurisdiction of these persons remain blocked, and U.S. persons are generally prohibited from engaging in transactions with them.

DATES: See SUPPLEMENTARY INFORMATION section for applicable date(s).

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On September 15, 2023, OFAC updated the entries on the SDN List for the following persons, whose property and interests in property subject to U.S. jurisdiction remain blocked under the relevant sanctions authority listed below.

1. NAJIB, Atif (a.k.a. NAJEEB, Atef; a.k.a. NAJIB, Atef); POB Jablah, Syria; Brigadier General; Position: Former head of the Syrian Political Security Directorate for Dar'a Province (individual) [SYRIA].

-to-

NAJIB, Atif (a.k.a. NAJEEB, Atef; a.k.a. NAJIB, Atef), Syria; DOB 1960; POB Jablah, Syria; nationality Syria; Gender Male; Former head of the Syrian Political Security Directorate for Dar'a Province (individual) [SYRIA].

Designated on April 29, 2011, pursuant to section 1(a) of Executive Order 13572 “Blocking Property of Certain Persons With Respect to Human Rights Abuses in Syria,” of April 29, 2011, 76 FR 24787, 3 CFR, 2011 Comp., p. 236 (E.O. 13572), for being a person listed in the Annex to E.O. 13572.

2. SALIMI, Hosein (a.k.a. SALAMI, Hoseyn; a.k.a. SALAMI, Hossein; a.k.a. SALAMI, Hussayn); nationality Iran; citizen Iran; Additional Sanctions Information—Subject to Secondary Sanctions; Passport D08531177 (Iran) (individual) [SDGT] [NPWMD] [IRGC] [IFSR].

-to-

SALIMI, Hosein (a.k.a. SALAMI, Hoseyn; a.k.a. SALAMI, Hossein; a.k.a. SALAMI, Hussayn), Tehran, Iran; DOB 1960; POB Golpayegan, Isfahan province, Iran; nationality Iran; citizen Iran; Additional Sanctions Information—Subject to Secondary Sanctions; Gender Male; Passport D08531177 (Iran); Commander-in-Chief of the Islamic Revolutionary Guard Corps (individual) [SDGT] [NPWMD] [IRGC] [IFSR].

Designated on October 25, 2007, pursuant to section 1(a)(iv) of Executive Order 13382 “Blocking Property of Weapons of Mass Destruction Proliferators and Their Supporters,” of June 28, 2005, 70 FR 38567, 3 CFR, 2005 Comp., p. 170 (E.O. 13382), for acting or purporting to act for or on behalf of, directly or indirectly, the Islamic Revolutionary Guard Corps, a person whose property and interests in property are blocked pursuant to E.O. 13382.

Dated: September 15, 2023.
Bradley Smith,
Director, Office of Foreign Assets Control, U.S. Department of the Treasury.

[FR Doc. 2023-20556 Filed 9-21-23; 8:45 am]

BILLING CODE 4810-AL-P